DEPARTMENT OF TRANSPORTATION

Office of the Secretary

Aviation Proceedings, Agreements Filed the Week Ending November 17, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26398.

Date Filed: 11-17-2006.

Parties: Members of the International Air Transport Association.

Subject:

TC31 North & Central Pacific, Expedited Areawide Resolution 015v, (Memo 0386),

Intended effective date: 15 December 2006.

Docket Number: OST-2006-26399.

Date Filed: 11-17-2006.

Parties: Members of the International Air Transport Association.

Subject:

TC31 Japan-North America, Caribbean, Expedited Resolution 002r, (Memo 0387),

Intended effective date: 15 December 2006.

Docket Number: OST-2006-26404.

Date Filed: 11-17-2006.

Parties: Members of the International Air Transport Association.

Subject:

Mail Vote 1/2006-Board of Governors Amendment to, the “Provisions for the Conduct of the IATA Traffic Conferences”,

Intended effective date: 1 December 2006.

Docket Number: OST-2006-26391.

Date Filed: 11-16-2006.

Parties: Members of the International Air Transport Association.

Subject: TC23/123 Middle East—South Asian Subcontinent Expedited Resolution 002at, (Memo 0306),

Intended effective date: 1 November 2006.

Docket Number: OST-2006-26389.

Date Filed: 11-16-2006.

Parties: Members of the International Air Transport Association.

Subject: TC23 Africa—South Asian Subcontinent, Expedited Resolution 002at, (Memo 0310),

Intended effective date: 1 November 2006.

Docket Number: OST-2006-26390.

Date Filed: 11-16-2006.

Parties: Members of the International Air Transport Association.

Subject: TC23/123 Middle East—South West Pacific, Expedited Resolution 002ca (Memo 0303),

Intended effective date: 1 November 2006.

Docket Number: OST-2006-26392.

Date Filed: 11-16-2006.

Parties: Members of the International Air Transport Association.

Subject: TC23 Middle East—South East Asia, Expedited Resolution 002bd (Memo 0307),

Intended effective date: 1 November 2006.

Docket Number: OST-2006-26373

Date Filed: 11-15-2006

Parties: Members of the International Air Transport Association.

Subject: TC123 North Atlantic, (except between USA and Korea (Rep. of) (KR), Malaysia (MY), Expedited Resolution 002h (Memo 0339),

Intended effective date: 15 December 2006.

Docket Number: OST-2006-26376.

Date Filed: 11-15-2006.

Parties: Members of the International Air Transport Association.

Subject: TC123 North Atlantic, Between USA and Korea (Rep. of), Malaysia, Expedited Resolution 002ii, (Memo 0343).

Intended effective date: 15 December 2006.

Docket Number: OST-2006-26374.

Date Filed: 11-15-2006.

Parties: Members of the International Air Transport Association.

Subject: TC123 Mid Atlantic, Expedited Resolution 002i, (Memo 0340).

Intended effective date: 15 December 2006.

Docket Number: OST-2006-26375.

Date Filed: 11-15-2006.

Parties: Members of the International Air Transport Association.

Subject: PTC123 South Atlantic, Expedited Resolution 002j, (Memo 0341).

Intended effective date: 15 December 2006.

Docket Number: OST-2006-26348.

Date Filed: 11-13-2006.

Parties: Members of the International Air Transport Association.

Subject: TC23/123 Passenger Tariff Coordinating Conference, TC23/123 Africa-Japan/Korea Resolutions and Fares, Tables (Memo 0319), Technical Correction: TC23/123 Passenger Tariff Coordinating Conference, TC23/123 Africa-Japan/Korea Resolutions (Memo 0320).

Intended effective date: 1 April 2007

Docket Number: OST-2006-26349.

Date Filed: 11-13-2006.

Parties: Members of the International Air Transport Association.

Subject: TC23/TC123 Passenger Tariff Coordinating Conference, TC23/123 Middle East-Japan/Korea Resolutions and, Fares Tables (Memo 0312).

Intended effective date: 1 April 2007.

Docket Number: OST-2006-26350.

Date Filed: 11-13-2006.

Parties: Members of the International Air Transport Association.

Subject: TC23/123 Passenger Tariff Coordinating Conference, TC23/123 Europe-Japan/Korea Resolutions and Fares, Tables (Memo 0143).

Intended effective date: 1 April 2007.

Renee V. Wright,
Program Manager, Docket Operations, Federal Register Liaison.

[FR Doc. E6-20651 Filed 12-5-06; 8:45 am]

BILLING CODE 4910-9X-P